DEPARTMENT OF AGRICULTURE

Rural Housing Service

Request for Proposals (RFP): Demonstration Program for Agriculture, Aquaculture, and Seafood Processing and/or Fishery Worker Housing Grants

AGENCY: Rural Housing Service, USDA.

ACTION: Notice; correction.

SUMMARY: The Rural Housing Service published a document in the Federal Register on July 17, 2007, requesting proposals for housing demonstration program for agriculture, aquaculture, and seafood processing and/or fishery workers grant funds. The deadline date for the submission of applications was inadvertently omitted from the notice.

FOR FURTHER INFORMATION CONTACT: Henry Searcy, Jr., Senior Loan Specialist, USDA, Rural Housing Service, Multi-Family Housing Processing Division, Stop 0781, Room 1263, 1400 Independence Avenue, SW., Washington, DC 20250-0781, telephone (202) 720-1753. (This is not a toll-free number.).

Correction

In the Federal Register of July 17, 2007, in FR Doc. E7-13763, on page 39045, in the second column, the “DATES” caption should read:

DATES: The deadline for receipt of all applications in response to this RFP is 5 p.m., eastern time, on August 31, 2007.

Dated: July 17, 2007.
Russell T. Davis,
Administrator, Rural Housing Service.

[FR Doc. E7-14183 Filed 7-20-07; 8:45 am]

BILLING CODE 3410-XV-P